DEPARTMENT OF DEFENSE

Department of the Air Force

[AIT-221028B-PL]

Notice of Intent To Grant Partially Exclusive Patent License

AGENCY: Department of the Air Force, Department of Defense.

ACTION: Notice of intent.

SUMMARY: Pursuant to the Bayh-Dole Act and implementing regulations, the Department of the Air Force hereby gives notice of its intent to grant a partially exclusive patent license to Sensor Biometrics, LLC, a small business LLC incorporated in the state of Nebraska and having a place of business at 8526 F Street, Suite 103, Omaha, NE 68127.

DATES: Written objections must be filed no later than fifteen (15) calendar days after the date of publication of this Notice.

ADDRESSES: Submit written objections to Darryl Ahner, AFIT ORTA, 2950 Hobson Way, Wright-Patterson AFB, OH 45433; or Email: AFIT.CZ.ORTA@us.af.mil. Include Docket No. AIT-221028B-PL in the subject line of the message.

FOR FURTHER INFORMATION CONTACT: Darryl Ahner, AFIT ORTA, 2950 Hobson Way, Wright-Patterson AFB, OH 45433; Telephone: 937-255-3636 or Email: AFIT.CZ.ORTA@us.af.mil.

SUPPLEMENTARY INFORMATION:

Abstract of patent application(s):

A method for cyber security monitor includes monitoring a network interface that is input-only configured to surreptitiously and covertly receive bit-level, physical layer communication between networked control and sensor field devices. During a training mode, a baseline distinct native attribute (DNA) fingerprint is generated for each networked field device. During a protection mode, a current DNA fingerprint is generated for each networked field device. The current DNA fingerprint is compared to the baseline DNA fingerprint for each networked field device. In response to detect at least one of RAA and PAA based on a change in the current DNA fingerprint to the baseline DNA fingerprint of one or more networked field devices, an alert is transmitted, via an external security engine interface to an external security engine.

Intellectual Property

Application No. 16/886,874, filed 29 May 2020 and entitled Passive Physical Layer Distinct Native Attribute Cyber Security Monitor.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-10373 Filed 5-15-23; 8:45 am]

BILLING CODE 5001-10-P